DEPARTMENT OF ENERGY

Federal Energy Regulatory Commission

[Docket Nos. ER01-2569-005; ER98-4652-005; ER02-1175-004; ER01-2568-003]

Boralex Livemore Falls LP; Boralex Stratton Energy LP; Boralex Ft. Fairfield LP; Boralex Ashland LP; Second Notice of Technical Conference

August 21, 2007.

As announced on August 8, 2007, the staff of the Federal Energy Regulatory Commission will hold a technical conference in the above-referenced proceeding on Wednesday, August 29, 2007, from 9 a.m. to 1 p.m. at the offices of the Federal Energy Regulatory Commission, 888 First Street, NE., Washington, DC 20426.

All parties and interested persons are invited to attend.

The conference will address the following issues raised with regard to Boralex's updated market power analysis:

1. What is the relevant geographic market for Boralex's market power analysis—the Northeast Power Coordinating Council's Maritimes Control Area (MCA) or the Northern Maine Independent System Administrator (NMISA) region?

2. Should Boralex be disallowed from deducting long-term firm non-requirements capacity in its market power analysis due to extraordinary circumstances (i.e., unique structural issues) in the relevant geographic market?

3. Should uncommitted capacity from Boralex's remote generation in the ISO-NE balancing authority area be considered in Boralex's market power analysis?

4. How should transmission import capacity into NMISA be allocated, and what impact will planned transmission additions have on import capabilities?

5. Why is the Boralex Sherman plant currently mothballed?

FERC conferences are accessible under section 508 of the Rehabilitation Act of 1973. For accessibility accommodations please send an e-mail to accessibility@ferc.gov or call toll free (866) 208-3372 (voice) or 202-502-8659 (TTY), or send a fax to 202-208-2106 with the required accommodations.

For further information please contact Marek Smigielski at (202) 502-6818 or e-mail marek.smigielski@ferc.gov.

Kimberly D. Bose,
Secretary.

[FR Doc. E7-16948 Filed 8-27-07; 8:45 am]

BILLING CODE 6717-01-P